DEPARTMENT OF JUSTICE

[CPCLO Order No. 05-2025]

Privacy Act of 1974; Systems of Records

AGENCY: Executive Office for Immigration Review, United States Department of Justice

ACTION: Notice of a system of records.

SUMMARY: Pursuant to the Privacy Act of 1974, 5 U.S.C. 552a, and Office of Management and Budget (OMB) Circular No. A-108, notice is hereby given that the Executive Office for Immigration Review (EOIR), a component within the United States Department of Justice (DOJ or Department), proposes to develop a new system of records titled “Pro Bono List Program Records,” and numbered JUSTICE/EOIR-005. EOIR proposes to establish this system of records to track and manage information and documents related to the List of Pro Bono Legal Service Providers (the List), as well as administration of the underlying application process for organizations, pro bono referral services, and attorneys to be included on the List. The system integrates an electronic information system to manage the records more efficiently, simplify the application process for providers through an online web-based Pro Bono List User Portal, allow providers to update their own contact information in the List, and streamline communications between EOIR, legal service providers, and the public.

DATES: In accordance with 5 U.S.C. 552a(e)(4) and (11), this notice is effective upon publication, subject to a 30-day period in which to comment on the routine uses, described below. Therefore, please submit any comments by January 20, 2026.

ADDRESSES: The public, Office of Management and Budget (OMB), and Congress are invited to submit any comments: by mail to the United States Department of Justice, Office of Privacy and Civil Liberties, ATTN: Privacy Analyst, Two Constitution Square, 145 N St. NE, Suite 8W-300, Washington, DC 20530; by facsimile at 202-307-0693; or by email at privacy.compliance@usdoj.gov. To ensure proper handling, please reference the above CPCLO Order No. on your correspondence.

FOR FURTHER INFORMATION CONTACT: Justine Fuga, Senior Component Official for Privacy, Office of the General Counsel; by mail at Executive Office for Immigration Review, 5107 Leesburg Pike, Suite 2600, Falls Church, VA 22041; or by email at Justine.Fuga@usdoj.gov and EOIR.Privacy.Intake@usdoj.gov.

SUPPLEMENTARY INFORMATION: The primary mission of EOIR is to adjudicate immigration cases by fairly, expeditiously, and uniformly interpreting and administering the Nation's immigration laws. Under delegated authority from the Attorney General, EOIR conducts immigration court proceedings, appellate reviews, and administrative hearings.

EOIR is required under 8 U.S.C. 1158(d)(4) and 1229(b)(2) to maintain a list of pro bono legal service providers who are available to represent individuals who are placed in immigration proceedings before EOIR and the Department of Homeland Security (DHS). The EOIR Office of Policy maintains the List, which must be updated on a quarterly basis. 8 U.S.C. 1158(d)(4), 1229(b)(2). The List is provided to individuals in immigration proceedings and contains information on non-profit organizations and attorneys who have committed to providing at least 50 hours per year of pro bono legal services before the immigration court with respect to which they appear on the List. The List also contains information on pro bono referral services that refer individuals in immigration court proceedings to pro bono counsel. The rules for qualifying organizations, pro bono referral services, and attorneys to be placed on the List can be found at 8 CFR 1003.61 et seq.

EOIR uses an electronic information system to manage records related to the List more efficiently; simplify the application process for providers through the external-facing web-based Pro Bono List User Portal; allow providers to update to their own contact information through the User Portal; and streamline communications between EOIR, providers, and the public. EOIR distributes copies of the List to its immigration courts and to DHS and posts the List on its public website, available at https://www.justice.gov/eoir/list-pro-bono-legal-service-providers.

In accordance with 5 U.S.C. 552a(r), the Department has provided a report to OMB and Congress on this new system of records.

Dated: December 17, 2025.
Peter A. Winn,
Acting Chief Privacy and Civil Liberties Officer, United States Department of Justice.

JUSTICE/EOIR-005

SYSTEM NAME AND NUMBER:

Pro Bono List Program Records, EOIR-005

SECURITY CLASSIFICATION:

Unclassified.

SYSTEM LOCATION:

Office of Policy, Executive Office for Immigration Review, 5107 Leesburg Pike, Suite 2500, Falls Church, VA 22041. Electronic records are maintained in EOIR's electronic information system, the Pro Bono List Microsoft Dynamics System, and stored in the DOJ EOIR Microsoft Azure Cloud.

SYSTEM MANAGER(S):

Assistant Director, Office of Policy, Executive Office for Immigration Review, 5107 Leesburg Pike, Suite 2500, Falls Church, VA 22041.

Chief Information Officer, Office of Information Technology, Executive Office for Immigration Review, 4825 Mark Center Drive, Suite 200, Alexandria, VA 22311.

AUTHORITY FOR MAINTENANCE OF THE SYSTEM:

8 U.S.C. 1158(d)(4)(B), 1229(a)(1)(E)(ii), and 1229(b)(2); 8 CFR 1003.61-.66, 1240.10(a)(2), 1240.11(c)(1)(iii), 1240.32(a), 1240.48(a), and 1241.14 (g)(3)(i).

PURPOSE(S) OF THE SYSTEM:

The records are used to comply with the statutes and regulations requiring EOIR to provide a List of Pro Bono Legal Service Providers (List) to individuals in immigration proceedings. The records are used by EOIR to administer the application and renewal process for organizations, attorneys, and representatives to be included on the List; to generate, maintain, and update the List quarterly; to publicly disseminate the List; and to evaluate the impact of the Pro Bono List Program on EOIR's mission and operations and on the public. EOIR distributes copies of the List to its immigration courts and to DHS and posts the List on its public-facing website, available at https://www.justice.gov/eoir/list-pro-bono-legal-service-providers.

CATEGORIES OF INDIVIDUALS COVERED BY THE SYSTEM:

The system includes information pertaining to licensed attorneys, non-profit organizations, accredited representatives employed by recognized organizations, and pro bono referral services who are applying to be included on the List, who are on the list, or who have been removed from the List, as well as individuals in immigration removal proceedings who received pro bono legal services as reported by the attorneys, representatives, organizations, and referral services on the List in accordance with 8 CFR 1003.61 et seq. The system also includes information pertaining to members of the public who submit comments or complaints about applicants or listed providers.

CATEGORIES OF RECORDS IN THE SYSTEM:

Records in this system include the quarterly Lists, application packages, and application files. Application packages include initial and renewal applications from those organizations and individuals who are applying to be included on the List, or who are on the List, or who have been removed from the List. Application packages consist of the following types of records and collections of information: Form EOIR-56, Request to be Included on the List of Pro Bono Legal Service Providers for Individuals in Immigration Proceedings (OMB No. 1125-0015), or documentation functionally equivalent to the Form EOIR-56; names; EOIR ID numbers; contact information; pro bono service areas; specialties or restrictions on services provided; declarations regarding an applicant's or provider's List eligibility; alien registration numbers and dates and hours of service provided for clients in immigration proceedings as reported by the applicant or provider in accordance with 8 CFR 1003.61 et seq. The records in this system also include application files, which include the application package and the following records: correspondence between EOIR and applicants or providers; written determinations and notices from EOIR approving or denying applications to be on the List or removing providers from the List, and any written responses from an applicant or provider about such determinations; and comments and complaints received from members of the public about applications, applicants, and providers.

RECORD SOURCE CATEGORIES:

Records and information in this system are generated or provided by applicants and providers, members of the public, and EOIR personnel.

ROUTINE USES OF RECORDS MAINTAINED IN THE SYSTEM, INCLUDING CATEGORIES OF USERS AND THE PURPOSES OF SUCH USES:

In addition to those disclosures permitted under 5 U.S.C. 522a(b) of the Privacy Act, all or a portion of the records or information contained in this system may be disclosed as a routine use pursuant to 5 U.S.C. 552a(b)(3) under the circumstances or for the purposes described below, to the extent such disclosures are compatible with the purposes for which the information was collected:

(1) To individuals in immigration proceedings in order to provide the individual with a list of persons and organizations, updated not less than quarterly, who have indicated their availability to represent individuals in immigration proceedings on a pro bono basis or who offer referral services to pro bono representatives;

(2) To members of the public for public awareness and in order to provide an opportunity to review copies of applications and forward comments or recommendations for approval or disapproval and to submit complaints about particular providers on the List;

(3) To contacts or clients listed on applications for the purpose of evaluating and verifying the applicant's or provider's data and claimed eligibility for initial or continued inclusion on the List;

(4) To the Department of Homeland Security (DHS) as necessary to comply with its statutory obligation to provide information about the availability of pro bono legal services for applicants seeking asylum and related relief.

(5) To Federal agencies involved in statistical analysis of data, and publication and/or reporting of aggregated or de-identified information designed to improve the efficiency and effectiveness of immigration proceedings at those agencies or to better meet EOIR's mission of adjudicating cases fairly, expeditiously, and uniformly interpreting and administering the Nation's immigration laws.

(6) Where a record, either alone or in conjunction with other information, indicates a violation or potential violation of law—criminal, civil, or regulatory in nature—the relevant records may be referred to the appropriate federal, state, local, territorial, tribal, or foreign law enforcement authority or other appropriate entity charged with the responsibility for investigating or prosecuting such violation or charged with enforcing or implementing such law.

(7) To any person or entity that EOIR has reason to believe possesses information regarding a matter within the jurisdiction of EOIR, to the extent deemed to be necessary by EOIR in order to elicit such information or cooperation from the recipient for use in the performance of an authorized activity.

(8) In an appropriate proceeding before a court, grand jury, or administrative or adjudicative body, when the Department determines that the records are arguably relevant to the proceeding; or in an appropriate proceeding before an administrative or adjudicative body when the adjudicator determines the records to be relevant to the proceeding.

(9) To an actual or potential party to litigation or the party's authorized representative for the purpose of negotiation or discussion of such matters as settlement, plea bargaining, or informal discovery proceedings.

(10) To the news media and the public, including disclosures pursuant to 28 CFR 50.2, unless it is determined that release of the specific information in the context of a particular case would constitute an unwarranted invasion of personal privacy.

(11) To contractors, grantees, experts, consultants, students, and others performing or working on a contract, service, grant, cooperative agreement, or other assignment for the federal government, when necessary to accomplish an agency function related to this system of records.

(12) To designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(13) To appropriate officials and employees of a federal agency or entity that requires information relevant to a decision concerning the hiring, appointment, or retention of an employee; the assignment, detail, or deployment of an employee; the issuance, renewal, suspension, or revocation of a security clearance; the execution of a security or suitability investigation; the letting of a contract, or the issuance of a grant or benefit.

(14) To a former employee of the Department for purposes of: responding to an official inquiry by a federal, state, or local government entity or professional licensing authority; in accordance with applicable Department regulations; or facilitating communications with a former employee that may be necessary for personnel-related or other official purposes where the Department requires information and/or consultation assistance from the former employee regarding a matter within that person's former area of responsibility.

(15) To Federal, state, local, territorial, tribal, foreign, or international licensing agencies or associations which require information concerning the suitability or eligibility of an individual for a license or permit.

(16) To a Member of Congress or staff acting upon the Member's behalf when the Member or staff requests the information on behalf of, and at the request of, the individual who is the subject of the record.

(17) To the National Archives and Records Administration (NARA) for purposes of records management inspections conducted under the authority of 44 U.S.C. 2904 and 2906.

(18) To appropriate agencies, entities, and persons when (i) the Department suspects or has confirmed that there has been a breach of the system of records; (ii) the Department has determined that as a result of the suspected or confirmed breach there is a risk of harm to individuals, the Department (including its information systems, programs, and operations), the Federal Government, or national security; and (iii) the disclosure made to such agencies, entities, and persons is reasonably necessary to assist in connection with the Department's efforts to respond to the suspected or confirmed breach or to prevent, minimize, or remedy such harm.

(19) To another Federal agency or Federal entity, when the Department determines that information from this system of records is reasonably necessary to assist the recipient agency or entity in (i) responding to a suspected or confirmed breach, or (ii) preventing, minimizing, or remedying the risk of harm to individuals, the recipient agency or entity (including its information systems, programs, and operations), the Federal Government, or national security, resulting from a suspected or confirmed breach.

(20) To any agency, organization, or individual, such as the Government Accountability Office, the Department's Office of the Inspector General, or the Office of Special Counsel, for the purpose of performing authorized audit or oversight operations of EOIR, including those related to fraud, waste, and abuse, and meeting related reporting requirements.

(21) To such recipients and under such circumstances and procedures as are mandated by federal statute, regulation, or treaty.

POLICIES AND PRACTICES FOR STORAGE OF RECORDS:

Physical records are maintained in hard-copy, paper format in secure filing cabinets, office spaces, and storage locations. Electronic records and data are stored in electronic media via a configuration of government servers and in accordance with Federal and Department information security standards. Information in this system is maintained in accordance with applicable laws, rules, and policies on protecting individual privacy and operating in a FedRAMP certified cloud-storage environment. Stored records are organized by applicant or provider name and immigration court location at which the provider has been approved to provide pro bono legal services.

POLICIES AND PRACTICES FOR RETRIEVAL OF RECORDS:

The records may be retrieved by the name of the applicant or provider, by the unique number assigned to the applicant or provider by the Pro Bono List Microsoft Dynamics System, or by the immigration court location(s) where the provider has been approved to provide pro bono legal services.

POLICIES AND PRACTICES FOR RETENTION AND DISPOSAL OF RECORDS:

The records in this system are subject to the Pro Bono Representative Files records schedule (DAA-0582-2016-0001). All records in this system are temporary records. The quarterly Lists are cutoff each quarter, maintained until the end of the calendar year, and destroyed 4 years thereafter (DAA-0582-2016-0001-0001). Application files are cutoff at the end of the calendar year in which the applicant or provider was removed from the list or in which the applicant was rejected or disapproved, transferred to inactive status one year after cutoff, and destroyed three years after the cutoff date (DAA-0582-2016-0001-0002 and -0003).

ADMINISTRATIVE, TECHNICAL, AND PHYSICAL SAFEGUARDS:

Information in this system is safeguarded in accordance with appropriate laws, rules, and policies, including automated systems security and access policies of EOIR and the Department. Access to information is limited to Department personnel who have an official need for access in order to perform their duties. Physical records are maintained in restricted areas of secured facilities. Electronic records are maintained and backed-up on secure servers and networks that may only be accessed by authorized personnel. Access to certain information may be restricted depending on a user's role and responsibility within the system. Internet connections are protected by multiple firewalls. Security personnel conduct periodic vulnerability scans using DOJ-approved software to ensure security compliance, and security logs are enabled for all computers to assist in troubleshooting and forensics analysis during incident investigations. Users of individual computers can only gain access to the data by authorized user identification and authentication processes. Records are safeguarded in accordance with appropriate laws, rules, and policies based on the classification and handling restrictions of the record.

RECORD ACCESS PROCEDURES:

Applicants and providers may access their own application packages and determinations in the Pro Bono List User Portal.

All other requests for access to records in this system must be made in writing and include a general description of the records sought and information about the subject of the record, including but not limited to, the record subject's full name, date of birth, place of birth, and alien registration number (A-number), where applicable. See 28 CFR 16.41; 28 CFR part 16 Appendix I. If the A-number is not known, or the case occurred before 1988, the date of an Order to Show Cause, country of origin, and location of the immigration hearing must be provided. See 28 CFR part 16 Appendix I.

All requests for access to records may be submitted by mail to the EOIR FOIA Service Center at 5107 Leesburg Pike, Suite 2600, Falls Church, VA 22041, by email at EOIR.FOIARequests@usdoj.gov, or online through the EOIR FOIA Public Access Link, available at https://foia.eoir.justice.gov/app/Home.aspx. Additional information for submitting requests to the FOIA Service Center can be found at https://www.justice.gov/eoir/foia-submit-a-request. The envelope and letter or email subject should be clearly marked “Privacy Act Access Request.” The request must describe the records sought in sufficient detail to enable Department personnel to locate them with a reasonable amount of effort. The request should include a general description of the records sought and must include the requester's full name, current address, and date and place of birth. The request must be signed and either notarized or submitted under penalty of perjury.

Although no specific form is required, you may obtain forms for this purpose from the FOIA/Privacy Act Mail Referral Unit, United States Department of Justice, 950 Pennsylvania Avenue NW, Washington, DC 20530, or on the Department of Justice website at http://www.justice.gov/oip/oip-request-html. See also Form EOIR-59, https://www.justice.gov/eoir/page/file/1380121/download.

More information regarding the Department's procedures for accessing records in accordance with the Privacy Act can be found at 28 CFR part 16 Subpart D, “Protection of Privacy and Access to Individual Records Under the Privacy Act of 1974.”

CONTESTING RECORD PROCEDURES:

Individuals seeking to contest or amend information maintained in this system of records must direct their requests to the address indicated in the “RECORD ACCESS PROCEDURES” paragraph above. All requests to contest or amend records must be in writing and the envelope, letter, or email subject should be clearly marked “Privacy Act Amendment Request.” All requests must state clearly and concisely what record is being contested, the reasons for contesting it, and the proposed amendment to the record. More information regarding the Department's procedures for amending or contesting records in accordance with the Privacy Act can be found at 28 CFR 16.46, “Requests for Amendment or Correction of Records.”

NOTIFICATION PROCEDURES:

Individuals may be notified if a record in this system of records pertains to them when the individual requests such information utilizing the same procedures as those identified in the “RECORD ACCESS PROCEDURES” paragraph, above.

EXEMPTIONS PROMULGATED FOR THE SYSTEM:

None.

HISTORY:

None.

[FR Doc. 2025-23472 Filed 12-18-25; 8:45 am]

BILLING CODE 4410-30-P